DEPARTMENT OF ENERGY

Federal Energy Regulatory Commission

Combined Notice of Filings

Take notice that the Commission has received the following Natural Gas Pipeline Rate and Refund Report filings:

Filings Instituting Proceedings

Docket Numbers: RP13-975-000.

Applicants: Millennium Pipeline Company, LLC.

Description: System Map Update to be effective 7/12/2013.

Filed Date: 6/11/13.

Accession Number: 20130611-5101.

Comments Due: 5 p.m. ET 6/24/13.

Docket Numbers: RP13-976-000.

Applicants: Gulf Crossing Pipeline Company LLC.

Description: Amendment to Neg Rate Agmt (Devon 10-9, 10) to be effective 6/13/2013.

Filed Date: 6/12/13.

Accession Number: 20130612-5059.

Comments Due: 5 p.m. ET 6/24/13.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP12-1006-000.

Applicants: Colorado Interstate Gas Company LLC.

Description: Compliance Report of Colorado Interstate Gas Company, L.L.C.

Filed Date: 6/11/13.

Accession Number: 20130611-5151.

Comments Due: 5 p.m. ET 6/24/13.

Docket Numbers: RP12-1100-000.

Applicants: Wyoming Interstate Company, L.L.C.

Description: Compliance Report of Wyoming Interstate Company, L.L.C.

Filed Date: 6/11/13.

Accession Number: 20130611-5152.

Comments Due: 5 p.m. ET 6/24/13.

Any person desiring to protest in any of the above proceedings must file in accordance with Rule 211 of the Commission's Regulations (18 CFR § 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 13, 2013.
Nathaniel J. Davis, Sr.,
Deputy Secretary.

[FR Doc. 2013-15074 Filed 6-24-13; 8:45 am]

BILLING CODE 6717-01-P